DEPARTMENT OF HOMELAND SECURITY

Coast Guard

33 CFR Part 165

[Docket Number USCG-2025-0320]

RIN 1625-AA11

Regulated Navigation Area; Illinois River, Naplate, IL

AGENCY: Coast Guard, DHS.

ACTION: Final rule.

SUMMARY: The Coast Guard is establishing a regulated navigation area for certain waters of the Illinois River. This action is necessary to provide for the safety of human health and the environment on these navigable waters near Naplate, IL due to an Environmental Protection Agency Superfund Alternative Site. This rulemaking prohibits persons and vessels from anchoring or pushing their vessels onto the bank of the river in the regulated navigation area unless authorized by the Captain of the Port Sector Lake Michigan or a designated representative, or in the event of an emergency.

DATES: This rule is effective October 16, 2025.

ADDRESSES: To view documents mentioned in this preamble as being available in the docket, go to https://www.regulations.gov, type USCG-2025-0320 in the search box and click “Search.” Next, in the Document Type column, select “Supporting & Related Material.”

FOR FURTHER INFORMATION CONTACT: If you have questions about this rule, call or email Lieutenant Kyle Goetz, Chief, Waterways Management, U.S. Coast Guard; telephone 630-986-2131, email D09-SMB-MSUChicago-WWM@uscg.mil.

SUPPLEMENTARY INFORMATION:

I. Table of Abbreviations

CFR Code of Federal Regulations

DHS Department of Homeland Security

EPA Environmental Protection Agency

FR Federal Register

NPRM Notice of proposed rulemaking

OTFG Ottawa Township Flat Glass

OU2 Operable Unit 2

PNA Pilkington North America, Inc.

§ Section

U.S.C. United States Code

USCG U.S. Coast Guard

II. Background Information and Regulatory History

In October of 2024, the United States Environmental Protection Agency (EPA), Pilkington North America, Inc. (PNA), Illinois Environmental Protection Agency (IEPA), and the United States Coast Guard (USCG) began discussions to explore establishing a Regulated Navigation Area for Operable Unit 2 (OU2) of the Ottawa Township Flat Glass (OTFG) Superfund Alternative Site (the Site; EPA ID: ILD005468616) along the Illinois River. The purpose of this Regulated Navigation Area is to prevent disturbance of riverbed sediment in OU2 that has been contaminated with arsenic due to historic Site operations.

In 2000, PNA characterized arsenic contamination in Illinois River sediment, and collected sediment samples and conducting bathymetric surveys with EPA oversight. Sampling results indicated that arsenic concentrations in sediment adjacent to the Site and Original Sand Pond source area on the north side of the Illinois River were above background levels. PNA performed additional work in 2002 to determine if sediment deposits within OU2 were stable and to evaluate whether arsenic exceedances had an adverse impact on benthic organisms living in the sediment. Through various sampling efforts, radioisotope, and bioassay studies conducted by the State of Illinois and PNA, EPA concluded that contaminated arsenic sediment deposits in OU2 were stable, not prone to washout by yearly flood events, and had negligible effect on river water quality or toxicity to aquatic organisms. As part of the 2023 Five-Year Review for the Site, EPA recommended that a no anchorage area be established along the OU2 portion of the Illinois River to prohibit the disturbance of contaminated sediment. In December of 2024, EPA identified for the Coast Guard the appropriate area for a Regulated Navigation Area.

In response, on June 16, 2025, the Coast Guard published a notice of proposed rulemaking (NPRM) titled Regulated Navigation Area; Illinois River, Naplate, IL (90 FR 25183). There, we stated why we issued the NPRM and invited comments on our proposed regulatory action related to this area. During the comment period that ended July 16, 2025, we received one comment.

III. Legal Authority and Need for Rule

The Coast Guard is issuing this rule under the authority in 46 U.S.C. 70034. The purpose of this rulemaking is to ensure the protectiveness of the remedy for the Illinois River Operable Unit, as outlined in the 2008 EPA Record of Decision for the OTFG Site, by prohibiting anchoring or pushing a vessel onto the bank within the Regulated Navigation Area except as otherwise set forth herein. The Great Lakes District Commander has determined that the protection provided by this rule will also protect human health and the environment.

IV. Discussion of Comments, Changes, and the Rule

As noted above, we received one comment on our NPRM published June 16, 2025. As this comment was fully in support of the proposal as written, there are no changes in the regulatory text of this rule from the proposed rule in the NPRM.

This rule establishes a Regulated Navigation Area for all waters of the Illinois River, from surface to bottom, encompassed by a line connecting the following points beginning at 41°19′24.495″ N, 88°53′23.388″ W; thence to 41°19′22.5156″ N, 88°53′25.2198″ W; thence to 41°19′17.4684″ N, 88°53′17.4876″ W; thence to 41°19′17.259″ N, 88°53′15.3126″ W; thence to 41°19′21.9468″ N, 88°52′44.8206″ W; thence to 41°19′27.4404″ N, 88°52′33.9708″ W; thence to 41°19′32.3862″ N, 88°52′29.1534″ W; thence to 41°19′33.8088″ N, 88°52′31.8612″; and along the shore line back to the beginning point. These coordinates are based on World Geodetic System 1984 (WGS 84).

All vessels and persons are prohibited from anchoring, dredging, laying cable, dragging, seining, bottom fishing, conducting salvage operations, or any other activity which could potentially disturb the seabed in the designated area. Vessels may otherwise transit or navigate within the RNA. The prohibition described does not apply to vessels or persons engaged in activities associated with remediation efforts related to the Ottawa Township Flat Glass Superfund Alternative Site, provided that the Coast Guard Captain of the Port Lake Michigan (COTP) is given advance notice of those activities by EPA.

V. Regulatory Analyses

We developed this rule after considering numerous statutes and Executive orders related to rulemaking. Below we summarize our analyses based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities for the following reasons: vessel traffic will be able to transit or navigate within the RNA, so long as they do not engage in anchoring, dredging, laying cable, dragging, seining, bottom fishing, conducting salvage operations, or any other activity which could potentially disturb the seabed in the designated area. While such activities are prohibited within the RNA, ample alternative locations exist near the RNA to conduct them, thus ensuring that this rule will not have a significant impact on a substantial number of small entities.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

B. Collection of Information

This rule will not call for a new collection of information under the Paperwork Reduction Act of 1995 (44 U.S.C. 3501-3520).

C. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves all vessels conducting operations potentially disturbing contaminated seabed in the regulated area to include, but not limited to: anchoring, dragging, spudding, or dredging. Normally, such actions are categorically excluded from further review under paragraph L[60a] of Appendix A, Table 1 of DHS Instruction Manual 023-01-001-01, Rev. 1. A Record of Environmental Consideration supporting this determination is available in the docket. For instructions on locating the docket, see the ADDRESSES section of this preamble.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.946 to read as follows:

§ 165.946 Regulated navigation area; EPA Superfund Site, Naplate, Illinois.

(a) Location. The following area is a Regulated Navigation Area (RNA): All waters of the Illinois River, from surface to bottom, encompassed by a line connecting the following points beginning at 41°19′24.495″ N, 88°53′23.388″ W; thence to 41°19′22.5156″ N, 88°53′25.2198″ W; thence to 41°19′17.4684″ N, 88°53′17.4876″ W; thence to 41°19′17.259″ N, 88°53′15.3126″ W; thence to 41°19′21.9468″ N, 88°52′44.8206″ W; thence to 41°19′27.4404″ N, 88°52′33.9708″ W; thence to 41°19′32.3862″ N, 88°52′29.1534″ W; thence to 41°19′33.8088″ N, 88°52′31.8612″; and along the shore line back to the beginning point. These coordinates are based on World Geodetic System 1984 (WGS 84).

(b) Regulations. In addition to the general RNA regulations in § 165.13, the following regulations apply to the RNA described in paragraph (a) of this section.

(1) All vessels and persons are prohibited from anchoring, dredging, laying cable, dragging, seining, bottom fishing, conducting salvage operations, or any other activity which could potentially disturb the seabed in the designated area. Vessels may otherwise transit or navigate within the RNA.

(2) The prohibition described in paragraph (b)(1) of this section does not apply to vessels or persons engaged in activities associated with remediation efforts related to the Ottawa Township Flat Glass Superfund Alternative Site, provided that the Coast Guard Captain of the Port Lake Michigan (COTP) is given advance notice of those activities by the U.S. Environmental Protection Agency.

(c) Contact information. If you observe violations of the regulations in this section, you may notify the COTP by email, at D09-SMB-MSUChicago-WWM@uscg.mil, or by phone, 414-747-7080.

Dated: September 11, 2025.
J.P. Hickey,
Rear Admiral, U.S. Coast Guard, Commander, Great Lakes District.

[FR Doc. 2025-17839 Filed 9-15-25; 8:45 am]

BILLING CODE 9110-04-P